DEPARTMENT OF THE INTERIOR

National Park Service

Oil and Gas Management Plan, Final Environmental Impact Statement, Big Thicket National Preserve, Texas

AGENCY: National Park Service, Department of the Interior.

ACTION: Notice of Availability of the Final Environmental Impact Statement for the Oil and Gas Management Plan, Big Thicket National Preserve.

SUMMARY: Pursuant to the National Environmental Policy Act of 1969, 42 U.S.C. 4332(2)(C), the National Park Service announces the availability of a final Environmental Impact Statement for the Oil and Management Plan, for Big Thicket National Preserve, Texas.

DATES: The National Park Service will execute a Record of Decision (ROD) no sooner than 30 days following publication by the Environmental Protection Agency of the Notice of Availability of the Final Environmental Impact Statement.

ADDRESSES: Information will be available for public inspection online at http://parkplanning.nps.gov, in the office of the Superintendent, Big Thicket National Preserve, 3785 Milam Street, Beaumont, Texas 77701-4724, 409-951-6801, and at the following locations:

Planning and Environmental Quality, Intermountain Region, National Park Service, 12795 W. Alameda Parkway, Lakewood, CO 80228, Telephone: 303-969-2851.

Office of Minerals/Oil and Gas Support, Intermountain Region, National Park Service, 1100 Old Santa Fe Trail, Santa Fe, NM 87505, Telephone: 505-988-6095.

Office of Public Affairs, National Park Service, Department of the Interior, 18th and C Streets, NW., Washington, DC 20240, Telephone: 202-208-6843.

FOR FURTHER INFORMATION CONTACT: Superintendent, Big Thicket National Preserve, at the above address and telephone number.

Dated: December 8, 2005.
Michael D. Snyder,
Acting Director, Intermountain Region, National Park Service.

[FR Doc. E5-7885 Filed 12-27-05; 8:45 am]

BILLING CODE 4312-CB-P